DEPARTMENT OF TRANSPORTATION

Surface Transportation Board

[STB Finance Docket No. 34498]

Ameren Corporation—Control Exemption—Coffeen and Western Railroad Company

Ameren Corporation (Ameren), a noncarrier holding company, has filed a verified notice of exemption to acquire control of Coffeen and Western Railroad Company (CWRC) upon CWRC's becoming a Class III rail carrier.¹ Ameren currently controls Class III rail carriers Joppa & Eastern Railroad (JERR) and Missouri Central Railroad Company (MCRR).²

¹ On April 15, 2004, CWRC filed a verified notice of exemption under 49 CFR 1150.31 in STB Finance Docket No. 34497, Coffeen and Western Railroad Company—Lease and Operation Exemption—near Coffeen, IL, to lease from Ameren Energy Generating Company and operate approximately 0.2 miles of rail line near Coffeen, IL. Upon consummation of the transaction covered by that exemption, CWRC would become a carrier.

² JERR, is controlled through Ameren's controlling interest in Electric Energy, Inc. Its track is entirely within Illinois, located approximately 155 miles from CWRC's track. MCRR's track and trackage rights are located entirely within Missouri, and its lines are leased and operated by Central Midland Railway Company.

The transaction was expected to be consummated on or shortly after April 22, 2004, the effective date of the exemption.

Ameren states that: (i) The railroads will not connect with each other or any railroad in their corporate family; (ii) the acquisition of control is not part of a series of anticipated transactions that would connect the railroads with each other or any railroad in their corporate family; and (iii) the transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Because this transaction involves Class III carriers only, the Board, under the statute, may not impose labor protective conditions for this transaction.

If the verified notice contains false or misleading information, the exemption is void ab initio. Petitions to revoke the exemption under 49 U.S.C. 10502(d) may be filed at any time. The filing of a petition to revoke will not automatically stay the transaction.

An original and 10 copies of all pleadings referring to STB Finance Docket No. 34498 must be filed with the Surface Transportation Board, 1925 K Street, NW., Washington, DC 20423-0001. In addition, a copy of each pleading must be served on Sandra L. Brown, 401 Ninth Street, NW., Suite 1000, Washington, DC 20004.

Board decisions and notices are available on our Web site at http://www.stb.dot.gov.

Decided: May 3, 2004.
By the Board, David M. Konschnik, Director, Office of Proceedings.
Vernon A. Williams,
Secretary.

[FR Doc. 04-10541 Filed 5-7-04; 8:45 am]

BILLING CODE 4915-01-P